DEPARTMENT OF COMMERCE

International Trade Administration

[A-428-801]

Ball Bearings and Parts Thereof From Germany: Final Results of Antidumping Duty Administrative Review; 2011-2011

AGENCY: Import Administration, International Trade Administration, Department of Commerce.

SUMMARY: On February 11, 2013, the Department of Commerce (the Department) published the preliminary results and partial rescission of its administrative review of the antidumping duty order on ball bearings and parts thereof from Germany. The period of review (POR) is May 1, 2011, through September 14, 2011.¹ We received no comments from interested parties. Accordingly, for the final results we continue to find that subject merchandise has not been sold at less than normal value.

¹ On September 15, 2011, the Department revoked the order on ball bearings and parts thereof from Germany as the conclusion of a sunset review. See Ball Bearings and Parts Thereof From France, Germany and Italy: Final Results of Sunset Reviews and Revocation of Antidumping Duty Orders, 76 FR 57019, (September 15, 2011) (Third Sunset Review). Therefore, the POR ends on September 14, 2011.

DATES: Effective Date: May 21, 2013.

FOR FURTHER INFORMATION CONTACT: Catherine Cartsos or Minoo Hatten, AD/CVD Operations, Office 1, Import Administration, International Trade Administration, U.S. Department of Commerce, 14th Street and Constitution Avenue NW., Washington, DC 20230, telephone: (202) 482-1757 or (202) 482-1690, respectively.

SUPPLEMENTARY INFORMATION:

Background

On February 11, 2013, the Department published the preliminary results of its administrative review and partial rescission of the antidumping duty order on ball bearings and parts thereof from Germany. See Ball Bearings and Parts Thereof from Germany: Preliminary Results of Antidumping Duty Administrative Review and Partial Rescission; 2011-2011, 78 FR 9764 (February 11, 2013) (Preliminary Results). We invited interested parties to comment on the Preliminary Results. We received no comments from interested parties.

The Department has conducted this administrative review in accordance with section 751 of the Tariff Act of 1930, as amended (the Act).

Scope of the Order

The products covered by the order are ball bearings and parts thereof. These products include all antifriction bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80. Although the HTSUS item numbers above are provided for convenience and customs purposes, the written descriptions of the scope of the order remain dispositive.

The size or precision grade of a bearing does not influence whether the bearing is covered by one of the order. The order covers all the subject bearings and parts thereof (inner race, outer race, cage, rollers, balls, seals, shields, etc.) outlined above with certain limitations. With regard to finished parts, all such parts are included in the scope of the order. For unfinished parts, such parts are included if they have been heat-treated or if heat treatment is not required to be performed on the part. Thus, the only unfinished parts that are not covered by the order are those that will be subject to heat treatment after importation. The ultimate application of a bearing also does not influence whether the bearing is covered by the order. Bearings designed for highly specialized applications are not excluded. Any of the subject bearings, regardless of whether they may ultimately be utilized in aircraft, automobiles, or other equipment, are within the scope of the order.

Changes Since the Preliminary Results

We have not revised our calculations since our publication of the Preliminary Results. Thus, the weighted-average dumping margins for the companies under review for our final results remain unchanged.

Final Results of the Review

As a result of the administrative review, we determine that the following weighted-average dumping margins exist for the respondents for the period May 1, 2011, through September 14, 2011.

Manufacturer/exporter | Weighted- average dumping margin (percent)
Audi AG | 0.00
Bayerische Motoren Werke AG | 0.00
myonic GmbH | 0.00
Volkswagen AG | 0.00
Volkswagen Zubehor GmbH | 0.00
W&H Dentalwerk Burmoos GmbH | 0.00

Assessment Rates

In accordance with the Final Modification,² we will instruct U.S. Customs and Border Protection (CBP) to liquidate entries covered in this review without regard to antidumping duties.

² See Antidumping Proceedings: Calculation of the Weighted-Average Dumping Margin and Assessment Rate in Certain Antidumping Duty Proceedings; Final Modification, 77 FR 8101 (February 14, 2012) (Final Modification).

The Department clarified its “automatic assessment” regulation on May 6, 2003. This clarification will apply to entries of subject merchandise during the POR produced by myonic GmbH for which it did not know its merchandise was destined for the United States. In such instances, we will instruct CBP to liquidate unreviewed entries at the country-specific all-others rate if there is no rate for the intermediate company(ies) involved in the transaction. For a full discussion of this clarification, see Antidumping and Countervailing Duty Proceedings: Assessment of Antidumping Duties, 68 FR 23954 (May 6, 2003).

We intend to issue liquidation instructions to CBP 15 days after publication of the final results of this review.

Cash Deposit Requirements

Because the antidumping duty order on ball bearings and parts thereof from Germany has been revoked as a result of the Third Sunset Review, the Department will not issue cash deposit instructions at the conclusion of this administrative review.

Notifications to Parties

This notice serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

These final results of administrative review are issued and published in accordance with sections 751(a)(1) and 777(i)(1) of the Act.

Dated: May 14, 2013.
Paul Piquado,
Assistant Secretary for Import Administration.

[FR Doc. 2013-12085 Filed 5-20-13; 8:45 am]

BILLING CODE 3510-DS-P